DEPARTMENT OF COMMERCE

National Oceanic and Atmospheric Administration

Availability of Seats for National Marine Sanctuary Advisory Councils

AGENCY: Office of National Marine Sanctuaries (ONMS), National Ocean Service (NOS), National Oceanic and Atmospheric Administration (NOAA), Department of Commerce (DOC).

ACTION: Notice and request for applications.

SUMMARY: ONMS is seeking applications for vacant seats for five of its 13 national marine sanctuary advisory councils (advisory councils). Vacant seats, including positions (i.e., primary member and alternate), for each of the advisory councils are listed in this notice under SUPPLEMENTARY INFORMATION. Applicants are chosen based upon their particular expertise and experience in relation to the seat for which they are applying; community and professional affiliations; views regarding the protection and management of marine or Great Lake resources; and possibly the length of residence in the area affected by the sanctuary. Applicants who are chosen as members or alternates should expect to serve two or three year terms, pursuant to the charter of the specific national marine sanctuary advisory council.

DATES: Applications are due by February 29, 2016.

ADDRESSES: Application kits are specific to each advisory council. As such, application kits must be obtained from and returned to the council-specific addresses noted below.

• Flower Garden Banks National Marine Sanctuary Advisory Council: Kelly Drinnen, Flower Garden Banks National Marine Sanctuary, 4700 Avenue U, Building 216, Galveston, TX 77551; (409) 621-5151 extension 105; email Kelly.Drinnen@noaa.gov; or download application from http://flowergarden.noaa.gov.

• Hawaiian Islands Humpback Whale National Marine Sanctuary Advisory Council: Inouye Regional Center, ATTN: NOS/ONMS/Shannon Lyday, 1845 Wasp Boulevard, Building 176, Honolulu, HI 96818; (808) 725-5905; email Shannon.Lyday@noaa.gov; or download application from http://hawaiihumpbackwhale.noaa.gov/council/council_app_accepting.html.

• Monterey Bay National Marine Sanctuary Advisory Council: Nichole Rodriguez, Monterey Bay National Marine Sanctuary, 99 Pacific Street, Building 455A, Monterey, CA 93940; (831) 647-4206; email Nichole.Rodriguez@noaa.gov; or download application from http://montereybay.noaa.gov/welcome.html.

• National Marine Sanctuary of American Samoa Advisory Council: Joseph Paulin, National Marine Sanctuary of American Samoa, Tauese P.F. Sunia Ocean Center, P.O. Box 4318, Pago Pago, AS 96799 (Utelei, American Samoa); (684) 633-6500; email Joseph.Paulin@noaa.gov; or download application from http://americansamoa.noaa.gov/about/samoa.html.

• Stellwagen Bank National Marine Sanctuary Advisory Council: Elizabeth Stokes, Stellwagen Bank National Marine Sanctuary, 175 Edward Foster Road, Scituate, MA 02066; (781) 545-8026 extension 201; email Elizabeth.Stokes@noaa.gov; or download application from http://stellwagen.noaa.gov.

FOR FURTHER INFORMATION CONTACT: For further information on a particular national marine sanctuary advisory council, please contact the individual identified in the Addresses section of this notice.

SUPPLEMENTARY INFORMATION: ONMS serves as the trustee for a network of underwater parks encompassing more than 170,000 square miles of marine and Great Lakes waters from Washington state to the Florida Keys, and from Lake Huron to American Samoa. The network includes a system of 13 national marine sanctuaries and Papahānaumokuākea and Rose Atoll marine national monuments. National marine sanctuaries protect our nation's most vital coastal and marine natural and cultural resources, and through active research, management, and public engagement, sustain healthy environments that are the foundation for thriving communities and stable economies. One of the many ways ONMS ensures public participation in the designation and management of national marine sanctuaries is through the formation of advisory councils. National marine sanctuary advisory councils are community-based advisory groups established to provide advice and recommendations to the superintendents of the national marine sanctuaries on issues including management, science, service, and stewardship; and to serve as liaisons between their constituents in the community and the sanctuary. Additional information on ONMS and its advisory councils can be found at http://sanctuaries.noaa.gov. Information related to the purpose, policies, and operational requirements for advisory councils can be found in the charter for a particular advisory council (http://sanctuaries.noaa.gov/management/ac/council_charters.html) and the National Marine Sanctuary Advisory Council Implementation Handbook (http://sanctuaries.noaa.gov/management/pdfs/2010-ac-handbook-appendices-07162015.pdf).

The following is a list of the vacant seats, including positions (i.e., primary member or alternate), for each of the advisory councils currently seeking applications for members and alternates:

Flower Garden Banks National Marine Sanctuary Advisory Council: Conservation (primary); Education (primary); Recreational Fishing (primary); and Research (primary).

Hawaiian Islands Humpback Whale National Marine Sanctuary Advisory Council: Lāna`i Island (alternate); and Moloka`i Island (alternate).

Monterey Bay National Marine Sanctuary Advisory Council: Agriculture (primary); Agriculture (alternate); At-Large (two primaries); At-Large (alternate); Business/Industry (primary); Business/Industry (alternate); College (primary); College (alternate); Commercial Fishing (primary); Commercial Fishing (alternate); Conservation (primary); Recreation (primary); Recreation (alternate); Recreational Fishing (primary); Recreational Fishing (alternate); Research (primary); and Research (alternate).

National Marine Sanctuary of American Samoa Advisory Council: West Side of Tutuila (primary).

Stellwagen Bank National Marine Sanctuary Advisory Council: At-Large (alternate); Business/Industry (alternate); Mobile Gear Commercial Fishing (alternate); Whale Watch (alternate); and Youth (alternate).

Authority: 16 U.S.C. 1431, et seq.

(Federal Domestic Assistance Catalog Number 11.429 Marine Sanctuary Program)

Dated: December 23, 2015.
John Armor,
Acting Director, Office of National Marine Sanctuaries, National Ocean Service, National Oceanic and Atmospheric Administration.

[FR Doc. 2016-01976 Filed 2-1-16; 8:45 am]

BILLING CODE 3510-NK-P